DEPARTMENT OF HOMELAND SECURITY

Coast Guard

33 CFR Part 117

[CGD07-03-087]

Drawbridge Operation Regulations; NE. 8th Street (George Bush Boulevard) Bridge, Atlantic Intracoastal Waterway, Mile 1038.7, Delray Beach, Palm Beach County, FL

AGENCY: Coast Guard, DHS.

ACTION: Notice of temporary deviation from regulations.

SUMMARY: The Commander, Seventh Coast Guard District, has approved a temporary deviation from the regulations governing the operation of the NE. 8th Street (George Bush Boulevard) bridge at Delray Beach across the Atlantic Intracoastal Waterway, mile 1038.7 in Delray Beach, Palm Beach County, Florida. Under this deviation, the bridge need only open a single-leaf of the bridge and shall provide double-leaf openings with two-hours advance notice to the bridge tender. This temporary deviation is required to allow the bridge owner to safely complete repairs to the bridge.

DATES: This deviation is effective from 7 a.m. on June 16, 2003, until 6 p.m. on August 16, 2003.

ADDRESSES: Material received from the public, as well as comments indicated in this preamble as being available in the docket, are part of docket [CGD07-03-087] and are available for inspection or copying at Commander (obr), Seventh Coast Guard District, 909 SE. 1st Avenue, Room 432, Miami, Florida 33131 between 8 a.m. and 4 p.m., Monday through Friday, except Federal holidays.

FOR FURTHER INFORMATION CONTACT: Mr. Michael Lieberum, Project Manager, Seventh Coast Guard District, Bridge Branch at (305) 415-6744.

SUPPLEMENTARY INFORMATION: The existing regulations of the NE. 8th Street bridge, mile 1038.7 at Delray Beach require the bridge to open on signal; except that, from November 1 to May 31, from 11 a.m. to 6 p.m., on Saturdays, Sundays and Federal holidays, the draw need open only on the hour, quarter-hour, half-hour, and three quarter-hour. On May 7, 2003, Palm Beach County, the bridge owner, requested a deviation from the current regulations to allow the bridge to only open a single-leaf of the bridge. Double-leaf openings are available with two-hours advance notice to the bridge tender. The other leaf of the bridge will remain in the upright, open to navigation position. This schedule will be in effect from 7 a.m. on June 16, 2003, to 6 p.m. on July 3, 2003, and from 7 a.m. on July 8, 2003, to 6 p.m. on August 16, 2003. During all other times, the bridge will open according to the published schedule in 33 CFR 117.261(z). This temporary deviation is required to allow the bridge owner to safely complete repairs to the bridge structure.

The District Commander has granted a temporary deviation from the operating requirements listed in 33 CFR 117.261(z). Under this deviation, the NE. 8th Street (George Bush Boulevard) bridge need only open a single-leaf of the bridge from 7 a.m. on June 16, 2003, to 6 p.m. on July 3, 2003, and from 7 a.m. on July 8, 2003, to 6 p.m. on August 16, 2003. During this time the bridge shall provide double-leaf openings with two-hours advance notice to the bridge tender.

Dated: May 29, 2003.
Greg Shapley,
Chief, Bridge Administration, Seventh Coast Guard District.

[FR Doc. 03-14590 Filed 6-9-03; 8:45 am]

BILLING CODE 4910-15-P